DEPARTMENT OF ENERGY

Ultra Deepwater Advisory Committee

AGENCY: Department of Energy, Office of Fossil Energy.

ACTION: Notice of open meeting cancellation.

SUMMARY: This notice announces cancellation of an open meeting of the Ultra Deepwater Advisory Committee. The Committee was organized pursuant to the Federal Advisory Committee Act (Pub. L. 92-463, 86 Stat. 770) (the Act). This notice is provided in accordance with the Act.

DATES: This notice is to cancel the meeting that was to be held on Wednesday, September 8, 2010, 8:30 a.m.-5 p.m.

ADDRESSES: The meeting being cancelled was to be held at: Sugar Land Marriott Town Square, 16090 City Walk, Sugar Land, Texas 77479-6539.

FOR FURTHER INFORMATION CONTACT: Elena Melchert, U.S. Department of Energy, Office of Oil and Gas, Washington, DC 20585; telephone (202) 586-5600. Additional information will be available at http://fossil.energy.gov/programs/oilgas/advisorycommittees/UltraDeepwater.html.

Issued in Washington, DC, on September 3, 2010.
Carol A. Matthews,
Committee Management Officer.

[FR Doc. 2010-22540 Filed 9-3-10; 4:15 pm]

BILLING CODE 6450-01-P